DEPARTMENT OF COMMERCE

National Oceanic and Atmospheric Administration

[I.D. 071406E]

Pacific Fishery Management Council; Public Meeting

AGENCY: National Marine Fisheries Service (NMFS), National Oceanic and Atmospheric Administration (NOAA), Commerce.

ACTION: Notice of public meetings.

SUMMARY: The Pacific Fishery Management Council's (Council) Highly Migratory Species Management Team (HMSMT) will a hold work session, which is open to the public.

DATES: The HMSMT work session will be Tuesday, August 8, 2006, from 8:30 a.m. until 5 p.m and on Wednesday, August 9, 2006, beginning at 8:30 a.m. until business is completed.

ADDRESSES: The work sessions will be held at the National Marine Fisheries Service, Southwest Fisheries Science Center, Large Conference Room, 8604 La Jolla Shores Drive, Room D-203, La Jolla, CA 92037, telephone: (858) 546-7000.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: The topics planned for this HMSMT work session are: (1) develop a preliminary range of alternatives for modification of management measures for the April 1, 2007-March 31, 2009, management period, as authorized under the Fishery Management Plan for U.S. West Coast Fisheries for Highly Migratory Species (HMS FMP); (2) continue work to identify reference points for selected HMS; (3) plan analyses of exempted fishing permits (EFPs) proposed for the 2007 fishing year; (5) develop recommendations for future Council action on a high seas longline fishery; and (6) engage in additional planning related to the annual Stock Assessment Fishery Evaluation (SAFE) document. Time permitting, the HMSMT may also discuss any new information relevant to their previous work characterizing historical effort in the U.S. North Pacific albacore fishery off the West Coast.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least 5 days prior to the meeting date.

Authority: 16 U.S.C. 1801 et seq.

Dated: July 14, 2006.
Tracey L. Thompson,
Acting Director, Office of Sustainable Fisheries, National Marine Fisheries Service.

[FR Doc. E6-11436 Filed 7-18-06; 8:45 am]

BILLING CODE 3510-22-S